DEPARTMENT OF THE TREASURY

Submission for OMB Review; Comment Request

August 19, 2015.

The Department of the Treasury will submit the following information collection request to the Office of Management and Budget (OMB) for review and clearance in accordance with the Paperwork Reduction Act of 1995, Public Law 104-13, on or after the date of publication of this notice.

DATES: Comments should be received on or before September 24, 2015 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-2246.

Type of Review: Revision of a currently approved collection.

Title: Form 8957—Foreign Account Tax Compliance Act (FATCA) Registration, Form 8966—FATCA Report, 8966-C, Cover Sheet for Form 8966 Paper Submissions.

Form: 8957, 8966, 8809, 8508.

Abstract: Form 8957 is to be used by a foreign financial institution to apply for status as a foreign financial institution as defined in IRC 1471(b)(2). Form 8966 is for reporting purposes and is to be filed by foreign financial institutions to report foreign reportable amounts paid to their current account holders that are nonparticipating FFIs. Form 8966 is further to be filed by a withholding agent to report US owners of certain foreign entities regarding withholdable payments made to these entities. Form 8809-I is an application for an extension of time to file Form 8966. Form 8508-I is a request for a waiver from filing Form 8966 electronically. Form 8966-C is a cover sheet for those submitting a paper version of Form 8966.

Affected Public: Private Sector: Businesses or other For-Profit Institutions.

Estimated Total Burden Hours: 4,446,476 hours.

Robert Dahl,
Treasury PRA Clearance Officer.

[FR Doc. 2015-20911 Filed 8-24-15; 8:45 am]

BILLING CODE 4830-10-P